FEDERAL COMMUNICATIONS COMMISSION

47 CFR Part 73

[MB Docket No. 02-239; RM-10529; RM-10711]

Radio Broadcasting Services; Alpine and Presidio, Texas

AGENCY: Federal Communications Commission.

ACTION: Final rule.

SUMMARY: In response to a Notice of Proposed Rule Making, 67 FR 57779 (September 12, 2001), this Report and Order grants the proposal to allot Channel 292C1 to Presidio, Texas, and denies the mutually exclusive proposal to allot Channel 293C at Alpine, Texas. Pursuant to the Commission's FM allotment priorities, the proposal to provide a first local aural transmission service to Presidio [FM allotment priority (3)] prevails over a proposal to add a fourth local aural transmission service to Alpine [FM allotment priority (4)]. The coordinates for Channel 292C1 at Presidio, Texas, are 29-25-54 North Latitude and 104-09-55 West Longitude, with a site restriction of 24.6 kilometers (15.3 miles) southeast of Presidio, Texas.

DATES: Effective February 6, 2004.

FOR FURTHER INFORMATION CONTACT: R. Barthen Gorman, Media Bureau, (202) 418-2180.

SUPPLEMENTARY INFORMATION: This is a synopsis of the Commission's Report and Order, MB Docket No. 02-239, adopted December 18, 2003, and released December 23, 2003. The full text of this Commission decision is available for inspection and copying during normal business hours in the FCC's Reference Information Center at Portals II, 445 12th Street, SW., Room CY-A257, Washington, DC, 20554. The document may also be purchased from the Commission's duplicating contractor, Qualex International, Portals II, 445 12th Street, SW., Room CY-B402, Washington, DC, 20554, telephone (202) 863-2893; facsimile (202) 863-2898, or via e-mail qualexint@aol.com.

List of Subjects in 47 CFR Part 73

Radio, Radio broadcasting.

Part 73 of title 47 of the Code of Federal Regulations is amended as follows:

PART 73—RADIO BROADCAST SERVICES

1.The authority citation for part 73 reads as follows:

Authority: 47 U.S.C. 154, 303, 334 and 336.

§ 73.202 [Amended]

2. Section 73.202(b), the Table of FM Allotments under Texas, is amended by adding Presidio, Channel 292C1.

Federal Communications Commission.
John A. Karousos,
Assistant Chief, Audio Division Media Bureau.

[FR Doc. 04-106 Filed 1-5-04; 8:45 am]

BILLING CODE 6712-01-U